NATIONAL ARCHIVES AND RECORDS ADMINISTRATION

36 CFR Part 1958

[FDMS No. NARA-13-0004; Agency No. NARA-2013-045]

RIN 3095-AB81

Fees

AGENCY: National Archives and Records Administration (NARA).

ACTION: Direct final rule.

SUMMARY: The National Archives and Records Administration (NARA) is changing its records fees regulation to remove the payment policy section, which sets out methods of payment. This is being done to allow NARA more flexibility in the way it accepts payment.

DATES: This rule is effective October 30, 2013, without further action, unless adverse comment is received is received by October 21, 2013. If adverse comment is received, NARA will publish a timely withdrawal of the rule in the Federal Register.

ADDRESSES: You may submit comments, identified by RIN 3095-AB81, by any of the following methods:

▪ Federal eRulemaking Portal: http://www.regulations.gov

▪ Email: regulation_comments@nara.gov

▪ Mail: (For paper, disk, or CD-ROM submissions.) Regulations Comments Desk, Strategy Division (SP); Suite 4100; National and Archives Records Administration; 8601 Adelphi Road; College Park, MD 20740-6001

▪ Hand delivery or courier: Deliver comments to 8601 Adelphi Road; College Park, MD.

Instructions: All submissions received must include the agency name and Regulatory Information Number (RIN) for this rulemaking (RIN 3095-AB81). All comments received may be published without changes, including any personal information provided.

FOR FURTHER INFORMATION CONTACT: For information or questions on this regulatory action, contact Kimberly Keravuori, by telephone at 301-837-3151, by email to regulation_comments@nara.gov, or by mail to Kimberly Keravuori, Regulations Program Manager; Strategy Division (SP), Suite 4100; National Archives and Records Administration; 8601 Adelphi Road; College Park, MD 20740-6001.

SUPPLEMENTARY INFORMATION: NARA has facilities throughout the country that have different capacities for handling types of payment. In addition, new technology and reductions in funding cause changes to that capacity in different ways at different facilities. Due to the changing nature and complexity of this situation, it is not practical or helpful to keep a general statement of methods of payment in the regulation on fees. The proposed change also includes notice that the methods of payment information is available on NARA's Web site, along with the fee schedules. This change will affect all customers who do business with NARA.

This rule is effective upon publication for good cause as permitted by the Administrative Procedure Act (5 U.S.C. 553(d)(3)). NARA believes that delaying the effective date for 30 days is unnecessary as this rule makes only minor changes to methods of payment.

This direct final rule is not a significant regulatory action for the purposes of E.O. 12866 and has been reviewed by the Office of Management and Budget (OMB). The proposed amendment is also not a major rule as defined in 5 U.S.C. Chapter 8, Congressional Review of Agency Rulemaking. As required by the Regulatory Flexibility Act, we certify that this rule will not have a significant impact on a substantial number of small entities because it makes changes only to methods of payment for those using NARA services.

List of Subjects in 36 CFR Part 1258

Archives and records.

For the reasons stated in the preamble, NARA amends Title 36 of the Code of Federal Regulations, part 1258, as follows:

PART 1258—FEES

1. The authority citation for part 1258 continues to read as follows:

Authority: 44 U.S.C. 2116(c) and 2307.

§ 1258.14 [Removed]

2. Remove § 1258.14.

§ 1258.18 [Amended]

3. In § 1258.18(a), add two commas and the words “, methods of payment,” after the words “NARA's fee schedule.”

Dated: September 25, 2013.
David S. Ferriero,
Archivist of the United States.

[FR Doc. 2013-23904 Filed 9-27-13; 8:45 am]

BILLING CODE 7515-01-P